NUCLEAR REGULATORY COMMISSION

[Docket No. 50-219; NRC-2009-0167]

Exelon Generation Company, LLC; Oyster Creek Nuclear Generating Station; Notice of Issuance of Renewed Facility Operating License No. DPR-16 for an Additional 20-Year Period; Record of Decision

Notice is hereby given that the U.S. Nuclear Regulatory Commission (the Commission) has issued Renewed Facility Operating License No. DPR-16 to Exelon Generation Company, LLC (the licensee), the operator of the Oyster Creek Nuclear Generating Station (OCNGS). Renewed facility operating license No. DPR-16 authorizes operation of OCNGS by the licensee at reactor core power levels not in excess of 1930 megawatts thermal, in accordance with the provisions of the OCNGS renewed license and its technical specifications.

The notice also serves as the record of decision for the renewal of Facility Operating License No. DPR-16, consistent with Title 10 of the Code of Federal Regulations (10 CFR), Section 51.103 “Record of Decision—General.” As discussed in the final Supplemental Environmental Impact Statement (FSEIS) for OCNGS, dated January 2007, the Commission has considered a range of reasonable alternatives that included generation from oil, wind, solar, hydropower, geothermal, wood waste, municipal solid waste, other biomass-derived fuels, fuel cells, delayed retirement, conservation measures and, tidal and ocean energy. The factors considered in the record of decision can be found in the supplemental environmental impact statement for OCNGS.

OCNGS is a boiling water reactor located in Lacey Township, Ocean County, New Jersey, approximately two miles south of the community of Forked River. OCNGS was operated by AmerGen Energy Company, LLC, until January 9, 2009, when the license was transferred to Exelon Generation Company, LLC (74 FR 4777), in accordance with Section 184 of the Atomic Energy Act of 1954, as amended, and 10 CFR Section 50.80, “Transfer of Licenses.” The application for the renewed license complied with the standards and requirements of the Atomic Energy Act of 1954 (the Act), as amended, and the Commission's regulations. As required by the Act and the Commission's regulations in 10 CFR Chapter I, the Commission has made appropriate findings, which are set forth in the license. Prior public notice of the action involving the proposed issuance of the renewed license and of an opportunity for a hearing regarding the proposed issuance of the renewed license was published in the Federal Register on September 15, 2005 (70 FR 54585).

For further details with respect to this action, see: (1) Exelon Generation Company, LLC, formerly AmerGen Energy Company, LLC, license renewal application for OCNGS dated July 22, 2005, as supplemented by letters dated through January 14, 2008; (2) the Commission's Safety Evaluation Report (NUREG-1875, Volumes 1 and 2), published on March 30, 2007, supplemented on September 19, 2008; (3) the licensee's updated safety analysis report; and (4) the Commission's FSEIS (NUREG-1437, Supplement 28), published on January 31, 2007. These documents are available at the NRC's Public Document Room, One White Flint North, 11555 Rockville Pike, Rockville, Maryland 20852, and can be viewed from the NRC Public Electronic Reading Room at http://www.nrc.gov/reading-rm/adams.html.

Copies of renewed facility operating license No. DPR-16, may be obtained by writing to the U.S. Nuclear Regulatory Commission, Washington, DC 20555-0001, Attention: Director, Division of License Renewal. Copies of the OCNGS Safety Evaluation Report (NUREG-1875), Supplement 1, and the FSEIS (NUREG-1437, Supplement 28) may be purchased from the National Technical Information Service, U.S. Department of Commerce, Springfield, Virginia 22161 (http://www.ntis.gov), 703-605-6000, or Attention: Superintendent of Documents, U.S. Government Printing Office, P.O. Box 371954 Pittsburgh, PA 15250-7954 (http://www.gpoaccess.gov), 202-512-1800.

All orders should clearly identify the NRC publication number and the requestor's Government Printing Office deposit account number or Visa or MasterCard number and expiration date.

Dated at Rockville, Maryland, this 8th day of April, 2009.
For the Nuclear Regulatory Commission.
Brian E. Holian,
Director, Division of License Renewal, Office of Nuclear Reactor Regulation.

[FR Doc. E9-9030 Filed 4-17-09; 8:45 am]

BILLING CODE 7590-01-P